DEPARTMENT OF THE INTERIOR

Bureau of Indian Affairs

[DR.5B814.IA001213]

Revision of Agency Information Collection for Reporting Systems for Public Law 102-477 Demonstration Project

AGENCY: Bureau of Indian Affairs, Interior.

ACTION: Notice of submission to OMB.

SUMMARY: In compliance with the Paperwork Reduction Act of 1995, the Assistant Secretary—Indian Affairs is submitting to the Office of Management and Budget (OMB) a request for approval for the collection of information for the Reporting System for Public Law 102-477 Demonstration Project. The information is currently authorized by OMB Control Number 1076-0135, which expires January 31, 2017.

DATES: Interested persons are invited to submit comments on or before October 27, 2014.

ADDRESSES: You may submit comments on the information collection to the Desk Officer for the Department of the Interior at the Office of Management and Budget, by facsimile to (202) 395-5806 or you may send an email to: OIRA_Submission@omb.eop.gov. Please send a copy of your comments to Jack Stevens, Division Chief, Office of Indian Energy and Economic Development, Assistant Secretary—Indian Affairs, 1951 Constitution Avenue NW., MS-20 SIB, Washington, DC 20240; facsimile: (202) 208-4564; email: Jack.Stevens@bia.gov.

FOR FURTHER INFORMATION CONTACT: Jack Stevens, (202) 208-6764. You may review the information collection request online at http://www.reginfo.gov. Follow the instructions to review Department of the Interior collections under review by OMB.

SUPPLEMENTARY INFORMATION:

I. Abstract

The Assistant Secretary—Indian Affairs is seeking revisions for the information collection conducted under OMB Control Number 1076-0135, Reporting System for Public Law 102-477 Demonstration Project. This information allows the Office of Indian Energy and Economic Development (IEED), which reports to the Assistant Secretary—Indian Affairs, to document satisfactory compliance with statutory, regulatory, and other requirements of the various integrated programs. Public Law 102-477 authorized tribal governments to integrate federally funded employment, training, and related services and programs into a single, coordinated, comprehensive service delivery plan. Funding agencies include the Department of Labor, and the Department of Health and Human Services. Indian Affairs is statutorily required to serve as the lead agency and provides a single, universal report format for use by tribal governments to report on integrated activities and expenditures. The IEED shares the information collected from these reports with the Department of Labor and the Department of Health and Human Services.

There are currently four information collections associated with this OMB Control Number: IA 7701—Narrative Report, IA 7702—Statistical Report, IA 7703—Financial Report, and IA 7703A—Tribal Temporary Assistance for Needy Families (TANF) Financial Report. These forms are included in this request and will continue to be authorized for use until 2017.

The revision reduces the number of forms to two: Statistical Report and Financial Expenditure Report. The previous TANF Financial Report and Financial Report have been combined to create the Financial Expenditure Report, allowing tribes to complete and submit the information on one form. Revisions were made to the Narrative Report and Statistical Report to provide clear instructions and guidance. In addition, a new guidance document, “Function Cost Categories,” has been added for reference.

The new reporting forms (Version 2) will replace the currently approved forms (Version 1) after 2017. To the extent possible, tribes should begin using the new reporting forms (Version 2) as they enter new contracts, but in no case later than the 2017 expiration date. Until then, the BIA will continue to accept either version of the forms to ensure a smooth transition in reporting and to allow time for training and technical assistance.

II. Request for Comments

The Assistant Secretary—Indian Affairs requests your comments on this collection concerning: (a) The necessity of this information collection for the proper performance of the functions of the agency, including whether the information will have practical utility; (b) The accuracy of the agency's estimate of the burden (hours and cost) of the collection of information, including the validity of the methodology and assumptions used; (c) Ways we could enhance the quality, utility, and clarity of the information to be collected; and (d) Ways we could minimize the burden of the collection of the information on the respondents.

Please note that an agency may not conduct or sponsor, and an individual need not respond to, a collection of information unless it displays a valid OMB Control Number.

It is our policy to make all comments available to the public for review at the location listed in the ADDRESSES section. Before including your address, phone number, email address or other personal identifying information in your comment, you should be aware that your entire comment—including your personal identifying information—may be made publicly available at any time. While you can ask us in your comment to withhold your personal identifying information from public review, we cannot guarantee that we will be able to do so.

The Assistant Secretary—Indian Affairs received 7 comments in response to the 60-day comment period published in the Federal Register on February 14, 2014 (79 CFR 8985). The comments included questions and suggestions to clarify the instructions. A few commenters expressed concerns regarding the implementation, including training, of the revised forms. The Assistant Secretary—Indian Affairs, along with Federal partners, reviewed the comments and made changes to clarify the instructions and forms. In addition, an implementation plan, which will encompass training, is in development. A detailed copy of the comments and responses can be seen on the following Web site: http://www.bia.gov/WhoWeAre/AS-IA/IEED/DWD/index.htm.

III. Data

OMB Control Number: 1076-0135.

Title: Reporting System for Public Law 102-477 Demonstration Project.

Brief Description of Collection: Public Law 102-477 authorized tribal governments to integrate federally-funded employment, training and related services programs into a single, coordinated, comprehensive delivery plan. This revision request creates two versions: Version 1 retains the currently approved forms (IA 7701—Narrative Report, IA 7702—Statistical Report, IA 7703—Financial Report, and IA 7703A—Tribal Temporary Assistance for Needy Families (TANF) Financial Report) and Version 2 reduces the numbers of forms from four to three (Narrative Report, Statistical Report and Financial Expenditure Report). In Version 2, revisions were made to the Narrative Report and Statistical Report to provide clear instructions and guidance and include a new guidance document, “Function Cost Categories.” A response is required to obtain and retain benefits.

Type of Review: Revision of currently approved collection.

Respondents: Indian tribes participating in Public Law 102-477.

Number of Respondents: 64 on average.

Total Number of Responses: 197 on average.

Frequency of Response: Each respondent must supply the information for the Narrative Report, Financial Expenditure Report and Statistical Report once.

Estimated Time per Response: Ranges from 2 to 60 hours.

Estimated Total Annual Hour Burden: 4,730 hours.

Estimated Total Non-Hour Dollar Burden: $320.

Dated: September 19, 2014.
Phillip L. Brinkley,
Senior Advisor for Information Resources—Indian Affairs (Interim).

[FR Doc. 2014-22977 Filed 9-25-14; 8:45 am]

BILLING CODE 4310-G1-P